DEPARTMENT OF LABOR

Office of the Secretary

Dominican Republic-Central America-United States Free Trade Agreement; Notice of Determination Regarding Review of Submission #2011-03

AGENCY: Bureau of International Labor Affairs, U.S. Department of Labor.

ACTION: Notice.

SUMMARY: The Office of Trade and Labor Affairs (OTLA) gives notice that on February 22, 2012, Submission #2011-03 was accepted for review pursuant to Article 16.4.3 of the Dominican Republic-Central America-United States Free Trade Agreement (CAFTA-DR).

Father Christopher Hartley filed the submission with OTLA on December 22, 2011. The submitter alleges that the Government of the Dominican Republic (GODR) failed to fulfill its obligations under Chapter 16 of the CAFTA-DR (the Labor Chapter). U.S. Submission #2011-3 alleges that the GODR's actions or lack thereof denied workers their rights under the laws of the Dominican Republic relating to freedom of association, the right to organize, child labor, forced labor, the right to bargain collectively, and acceptable conditions of work. These allegations are supported by statements which, if substantiated, could constitute a failure on the part of the Dominican Republic to comply with its obligations under the CAFTA-DR.

The objective of the review of the submission will be to gather information so that OTLA can better understand the allegations therein and publicly report on the U.S. Government's views regarding whether the GODR's actions were consistent with its obligations under the Labor Chapter of the CAFTA-DR.

DATES: Effective Date: February 22, 2012.

FOR FURTHER INFORMATION CONTACT: Gregory Schoepfle, Director, OTLA, U.S. Department of Labor, 200 Constitution Avenue NW., Room S-5303, Washington, DC 20210. Telephone: (202) 693-4900. (This is not a toll-free number.)

SUPPLEMENTARY INFORMATION: Article 16.4.3 of the Labor Chapter of the CAFTA-DR provides for the receipt and review of public communications (“submissions”) regarding labor law matters in Central America and the Dominican Republic. A Federal Register notice issued on December 21, 2006 informed the public that the OTLA had been designated as the office to serve as the contact point for implementing the CAFTA-DR's labor provisions. The same Federal Register notice informed the public of the Procedural Guidelines that OTLA would follow for the receipt and review of public submissions (71 FR 76691 (2006)). These Procedural Guidelines are available at http://www.dol.gov/ilab/programs/otla/proceduralguidelines.htm. According to the definitions contained in the Procedural Guidelines (Section B) a “submission” is “a communication from the public containing specific allegations, accompanied by relevant supporting information, that another Party has failed to meet its commitments or obligations arising under a labor chapter or Part Two of the NAALC.”

The Procedural Guidelines specify that OTLA shall consider six factors, to the extent that they are relevant, in determining whether to accept a submission for review:

1. Whether the submission raises issues relevant to any matter arising under a labor chapter or the NAALC;

2. Whether a review would further the objectives of a labor chapter or the NAALC;

3. Whether the submission clearly identifies the person filing the submission, is signed and dated, and is sufficiently specific to determine the nature of the request and permit an appropriate review;

4. Whether the statements contained in the submission, if substantiated, would constitute a failure of the other Party to comply with its obligations or commitments under a labor chapter or the NAALC;

5. Whether the statements contained in the submission or available information demonstrate that appropriate relief has been sought under the domestic laws of the other Party, or that the matter or a related matter is pending before an international body; and

6. Whether the submission is substantially similar to a recent submission and significant, new information has been furnished that would substantially differentiate the submission from the one previously filed.

U.S. Submission #2011-3 alleges that the GODR's actions or lack thereof denied workers their rights under the laws of the Dominican Republic relating to freedom of association, the right to organize, child labor, forced labor, the right to bargain collectively, and acceptable conditions of work.

In determining whether to accept the submission, OTLA considered the relevant factors in light of the statements in the submission and its supporting documentation. The submission clearly identifies the submitter, is signed and dated, and upon clarification, was sufficiently specific to determine the nature of the request and permit an appropriate review. It also raises issues relevant to the Labor Chapter of the CAFTA-DR, citing numerous problems in the sugar sector that it believes are in violation of the Dominican Republic's labor laws. The submission raises pertinent issues that would further the objectives of the Labor Chapter and that could, if substantiated, constitute a failure of the GODR to comply with its obligations under the Labor Chapter. The submitter provided additional information, including a list of articles of the Labor Code, the Constitution of the Dominican Republic, and ILO Conventions that he believes were violated by the allegations in the submission. The submitter provided information on his efforts to seek appropriate relief for these alleged violations under domestic laws and to raise the issues with GODR officials. The submission also notes that the issues in the submission have been raised in international fora, but to date, they have not been remedied. OTLA has not received similar submissions. Accordingly, OTLA has accepted the submission for review.

OTLA's decision to accept the submission for review is not intended to indicate any determination as to the validity or accuracy of the allegations contained in the submission. The objective of the review of the submission will be to gather information so that OTLA can better understand the allegations therein and publicly report on the issues raised by the submission. OTLA will complete the review and issue a public report within 180 days, unless circumstances, as determined by OTLA, require an extension of time, as set out in the Procedural Guidelines. The public report will include a summary of the review process, as well as any findings and recommendations.

Signed at Washington, DC, on February 22, 2012.
Sandra Polaski,
Deputy Undersecretary for International Affairs.

[FR Doc. 2012-6225 Filed 3-14-12; 8:45 am]

BILLING CODE 4510-28-P